DEPARTMENT OF TRANSPORTATION

Federal Aviation Administration

[Docket No. FAA-2025-1270]

Agency Advisory Circular: Informed Consent Requirements for Crew and Space Flight Participants

AGENCY: Federal Aviation Administration (FAA), DOT.

ACTION: Notice and request for comments.

SUMMARY: FAA invites public comments about our intention to publish advisory material for Title 14 Code of Federal Regulation (CFR) Part 450. This Draft Advisory Circular (AC) provides guidance on meeting informed consent requirements for crew and space flight participants in accordance with Title 14 of the Code of Federal Regulations (CFR) § 460.9, Informing crew of risk, and § 460.45, Operator informing space flight participant of risk. An operator must inform, in writing, each space flight participant and any individual serving as crew, that the United States Government has not certified the launch vehicle and/or any reentry vehicle as safe for carrying flight crew or space flight participants in accordance with §§ 460.9 and 460.45. An operator must inform each space flight participant, in writing, about the risks of the launch and reentry, including the safety record of the launch or reentry vehicle type. The operator must also provide the space flight participant with an opportunity to ask questions orally to acquire a better understanding of the hazards and risks of the mission. In return, each space flight participant must then provide consent, in writing, to participate in a launch and/or reentry of a commercial space vehicle in accordance with § 460.45.

Link to Draft AC: https://www.faa.gov/space/legislationregulationguidance/draft_docs/ac.

DATES: Written comments should be submitted by July 24, 2025.

ADDRESSES: Please send written comments.

By Electronic Docket: www.regulations.gov (Enter docket number into search field).

By email: 9-ast-asz210-directives@faa.gov. Please include the Draft AC number/title in the subject line.

FOR FURTHER INFORMATION CONTACT: James Hatt by email at: James.A.Hatt@faa.gov; phone: 202-549-2325.

James A. Hatt,
Space Policy Division Manager, Commercial Space Transportation, Federal Aviation Administration.

[FR Doc. 2025-11565 Filed 6-23-25; 8:45 am]

BILLING CODE 4910-13-P